DEPARTMENT OF DEFENSE

Office of the Secretary

Defense Science Board

ACTION: Notice of advisory committee meetings.

SUMMARY: The Defense Science Board (DSB) Task Force on High Energy Laser Weapon Systems Applications will meet in closed session on November 14-15, 2000; December 14-15, 2000; January 23-24, 2001; February 21-22, 2001; March 13-14, 2001; April 17-18, 2001; and May 15-16, 2001, at Strategic Analysis Inc., 3601 Wilson Boulevard, Arlington, VA 22201.

The mission of the Defense Science Board is to advise the Secretary of Defense and the Under Secretary of Defense for Acquisition, Technology & Logistics on scientific and technical matters as they affect the perceived needs of the Department of Defense. At these meetings, the Task Force will review on-going or proposed programs in high energy laser (HEL) applications; examine recent supporting technology advancements and their applications with respect to supporting military HEL weapon system developments; develop potential military and strategic HEL system applications and identify processes required to implement these potentials; determine what needs to be done to weaponize these systems; and assess HEL operational concepts, impacts and limitations, considering legal, treaty and policy issues concerning HEL employment.

In accordance with Section 10(d) of the Federal Advisory Committee Act, P.L. No. 92-463, as amended (5 U.S.C. App. II, (1994)), it has been determined that these Defense Science Board meetings, concern matters listed in 5 U.S.C. 552b(c)(1) (1994), and that accordingly these meetings will be closed to the public.

Dated: October 10, 2000.
L.M. Bynum,
Alternate OSD Federal Register Liaison Officer, Department of Defense.

[FR Doc. 00-26410 Filed 10-13-00; 8:45 am]

BILLING CODE 5001-10-M